COMMITTEE FOR PURCHASE FROM PEOPLE WHO ARE BLIND OR SEVERELY DISABLED

Correction of Notice of Quarterly Update of A-List and Movement of Products Between the A-List, B-List and C-List

In the notice appearing on page 72445, FR Doc E8-28252, Clarification of Scope of Procurement List Additions, on November 28, 2008, the Committee published a list of products and NSNs that moved from B-List to A-List.

This notice adds two additional products and NSNs (Marker, Tube Type, Blue-7520-01-511-4319) and (Marker, Tube Type, Red-7520-01-511-4324) that moved from B-List to A-List.

Barry S. Lineback,
Sr. Program Analyst.

[FR Doc. E8-30190 Filed 12-18-08; 8:45 am]

BILLING CODE 6353-01-P